DEPARTMENT OF DEFENSE

Department of the Air Force

[25-0005206-AFRL/RX]

Notice of Intent To Grant an Exclusive Patent License

AGENCY: Department of the Air Force, Department of Defense.

ACTION: Notice of Intent.

SUMMARY: Pursuant to the Bayh-Dole Act and implementing regulations, the Department of the Air Force hereby gives notice of its intent to grant an exclusive patent license to Trustees of Tufts College, 136 Harrison Avenue, Suite 75K-950, Boston, Massachusetts 02111, USA. Such license is exclusive.

DATES: Written objections must be filed no later than fifteen (15) calendar days after the date of publication of this Notice.

ADDRESSES: Submit written objections to James F. McBride, Air Force Materiel Command Law Office, AFMCLO/JAZ, 2240 B Street, Area B, Building 11, Wright-Patterson AFB, OH 45433-7109; Facsimile: (937) 255-9318; or Email: afmclo.jaz.tech@us.af.mil. Include Docket ARX-210727A-PL in the subject line of the message.

FOR FURTHER INFORMATION CONTACT: James F. McBride, Air Force Materiel Command Law Office, AFMCLO/JAZ, 2240 B Street, Area B, Building 11, Wright-Patterson AFB, OH 45433-7109; Telephone: (937) 713-0229; Facsimile: (937) 255-9318; or Email: afmclo.jaz.tech@us.af.mil.

SUPPLEMENTARY INFORMATION:

Abstract of Patents and Patent Application(s)

I. Oxygen-sensing materials and methods are disclosed. The materials include oxygen-sensing chromophores embedded in a solid matrix including silk fibroin in an amount by weight of at least 50% of the total weight of the solid matrix. The solid matrix possesses at least partial transparency at relevant wavelengths. The solid matrix is biocompatible and biodegradable. The solid matrix is not a hydrogel. The chromophores are distributed throughout the solid matrix. Tissue oxygenation can be estimated from phosphorescence measurements made from oxygen-sensing materials implanted in subject.

Intellectual Property

Silk-chromophore Composite Materials for in situ Oxygen Sensing. The invention is protected under U.S. Provisional Patent Application Serial No.63/317,929, filed on March 8, 2022, PCT Patent Application Serial No. PCT/US2023/014796, filed on March 8, 2023, U.S. Patent Application Serial No. 18/823,853, filed on September 4, 2024.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Tommy W. Lee,
Acting Air Force Federal Register Liaison Officer.

[FR Doc. 2024-26826 Filed 11-15-24; 8:45 am]

BILLING CODE 3911-44-P